NUCLEAR REGULATORY COMMISSION

Advisory Committee on Reactor Safeguards

In accordance with the purposes of Sections 29 and 182b of the Atomic Energy Act (42 U.S.C. 2039, 2232b), the Advisory Committee on Reactor Safeguards (ACRS) will hold a meeting on February 4-6, 2010, 11545 Rockville Pike, Rockville, Maryland. The date of this meeting was previously published in the Federal Register on Monday, October 14, 2009 (74 FR 52829-52830).

Thursday, February 4, 2010, Conference Room T2-B1, Two White Flint North, Rockville, Maryland

8:30 a.m.-8:35 a.m.: Opening Remarks by the ACRS Chairman (Open)—The ACRS Chairman will make opening remarks regarding the conduct of the meeting.

8:35 a.m.-10 a.m.: Draft Final Revision 1 to Regulatory Guide (RG) 1.141, “Containment Isolation Provisions for Fluid Systems” (Open)—The Committee will hear presentations by and hold discussions with representatives of the NRC staff regarding draft final Revision 1 to RG 1.141, “Containment Isolation Provisions for Fluid Systems,” NRC staff's resolution of public comments, and related matters.

10:15 a.m.-12:15 p.m.: Draft Final Regulatory Guide 1.217, “Guidance for the Assessment of Beyond-Design-Basis Aircraft Impacts” (Open/Closed)—The Committee will hear presentations by and hold discussions with representatives of the NRC staff regarding draft final RG 1.217, “Guidance for the Assessment of Beyond-Design-Basis Aircraft Impacts,” NRC staff's resolution of stakeholder comments, and related matters. [Note: A portion of this session may be closed to protect unclassified safeguards information pursuant to 5 U.S.C. 552b(c)(3).]

1:15 p.m.-2:45 p.m.: Draft Final Revision 1 to Regulatory Guide 1.62, “Manual Initiation of Protective Actions” (Open)—The Committee will hear presentations by and hold discussions with representatives of the NRC staff regarding draft final Revision 1 to RG 1.62, “Manual Initiation of Protective Actions,” NRC staff's resolution of public comments, and related matters.

3 p.m.-4:30 p.m.: Proposed Revisions to NUREG-1520, “Standard Review Plan for Review of a License Application for a Fuel Cycle Facility” (Open)—The Committee will hear presentations by and hold discussions with representatives of the NRC staff regarding proposed revisions to NUREG 1520, “Standard Review Plan for Review of a License Application for a Fuel Cycle Facility,” and related matters.

4:45 p.m.-7 p.m.: Preparation of ACRS Reports (Open/Closed)—The Committee will discuss proposed ACRS reports on matters discussed during this meeting. [Note: A portion of this session may be closed to protect unclassified safeguards information pursuant to 5 U.S.C. 552b(c)(3).]

Friday, February 5, 2010, Conference Room T2-B1, Two White Flint North, Rockville, Maryland

8:30 a.m.-8:35 a.m.: Opening Remarks by the ACRS Chairman (Open)—The ACRS Chairman will make opening remarks regarding the conduct of the meeting.

8:35 a.m.-10 a.m.: Status of Rulemaking for Disposal of Depleted Uranium and Other Unique Waste Streams (Open)—The Committee will hear presentations by and hold discussions with representatives of the NRC staff regarding the status of rulemaking efforts addressing disposal of depleted uranium and other unique waste streams, and related matters.

10:15 a.m.-11:45 a.m.: Future ACRS Activities/Report of the Planning and Procedures Subcommittee (Open/Closed)—The Committee will discuss the recommendations of the Planning and Procedures Subcommittee regarding items proposed for consideration by the Full Committee during future ACRS meetings, including anticipated workload and member assignments, and related matters. [Note: A portion of this session may be closed pursuant to 5 U.S.C. 552b(c)(2) and (6) to discuss organizational and personnel matters that relate solely to internal personnel rules and practices of ACRS, and information the release of which would constitute a clearly unwarranted invasion of personal privacy.]

11:45 a.m.-12 p.m.: Reconciliation of ACRS Comments and Recommendations (Open)—The Committee will discuss the responses from the NRC Executive Director for Operations to comments and recommendations included in recent ACRS reports and letters.

1 p.m.-3 p.m.: Draft ACRS Report on the NRC Safety Research Program (Open)—The Committee will discuss the draft ACRS report on the NRC Safety Research Program.

3:15 p.m.-7 p.m.: Preparation of ACRS Reports (Open/Closed)—The Committee will discuss the proposed ACRS reports on matters discussed during this meeting. [Note: A portion of this session may be closed to protect unclassified safeguards information pursuant to 5 U.S.C. 552b(c)(3).]

Saturday, February 6, 2010, Conference Room T2-B1, Two White Flint North, Rockville, Maryland

8:30 a.m.-12:30 p.m.: Preparation of ACRS Reports (Open)—The Committee will continue its discussion of proposed ACRS reports.

12:30 p.m.-1 p.m.: Miscellaneous (Open)—The Committee will continue its discussion related to the conduct of Committee activities and specific issues that were not completed during previous meetings.

Procedures for the conduct of and participation in ACRS meetings were published in the Federal Register on October 14, 2009 (74 FR 52829-52830). In accordance with those procedures, oral or written views may be presented by members of the public, including representatives of the nuclear industry. Persons desiring to make oral statements should notify Mr. Derek Widmayer, Cognizant ACRS Staff (Telephone: 301-415-7366, e-mail: Derek.Widmayer@nrc.gov), between 7:30 a.m. and 5:15 p.m. (ET) five days before the meeting, if possible, so that appropriate arrangements can be made to allow necessary time during the meeting for such statements. In view of the possibility that the schedule for ACRS meetings may be adjusted by the Chairman as necessary to facilitate the conduct of the meeting, persons planning to attend should check with the Cognizant ACRS Staff if such rescheduling would result in major inconvenience.

Thirty-five hard copies of each presentation or handout should be provided 30 minutes before the meeting. In addition, one electronic copy of each presentation should be emailed to the Cognizant ACRS Staff one day before meeting. If an electronic copy cannot be provided within this timeframe, presenters should provide the Cognizant ACRS Staff with a CD containing each presentation at least 30 minutes before the meeting.

In accordance with Subsection 10(d) Public Law 92-463, and 5 U.S.C. 552b(c), certain portions of this meeting may be closed, as specifically noted above. Use of still, motion picture, and television cameras during the meeting may be limited to selected portions of the meeting as determined by the Chairman. Electronic recordings will be permitted only during the open portions of the meeting.

ACRS meeting agenda, meeting transcripts, and letter reports are available through the NRC Public Document Room at pdr.resource@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service for observing ACRS meetings should contact Mr. Theron Brown, ACRS Audio Visual Technician (301-415-8066), between 7:30 a.m. and 3:45 p.m. (ET), at least 10 days before the meeting to ensure the availability of this service. Individuals or organizations requesting this service will be responsible for telephone line charges and for providing the equipment and facilities that they use to establish the video teleconferencing link. The availability of video teleconferencing services is not guaranteed.

Dated: January 14, 2010.
Andrew L. Bates,
Advisory Committee Management Officer.

[FR Doc. 2010-1059 Filed 1-20-10; 8:45 am]

BILLING CODE 7590-01-P